DEPARTMENT OF LABOR

Employment and Training Administration

[TA-W-51,252]

Filtex Incorporated, Guntersville, AL; Notice of Termination of Investigation

Pursuant to section 221 of the Trade Act of 1974, as amended, an investigation was initiated on March 21, 2003 in response to a worker petition filed by the company on behalf of workers at Filtex Incorporated, Guntersville, Alabama.

The petitioner has requested that the petition be withdrawn. Consequently, the investigation has been terminated.

Signed at Washington, DC, this 4th day of April, 2003.
Linda G. Poole,
Certifying Officer, Division of Trade Adjustment Assistance.

[FR Doc. 03-10146 Filed 4-23-03; 8:45 am]

BILLING CODE 4510-30-P